DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping and countervailing duty orders and findings with July anniversary dates. In accordance with Commerce's regulations, we are initiating those administrative reviews.

DATES: Applicable September 9, 2019.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various antidumping and countervailing duty orders and findings with July anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this antidumping proceeding (e.g., investigation, administrative review, new shipper review or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at http://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Status Application will be available on Commerce's website at http://enforcement.trade.gov/nme/nme-sep-rate.html on the date of publication of this Federal Register notice. In responding to the Separate Rate Status Application, refer to the instructions contained in the application. Separate Rate Status Applications are due to Commerce no later than 30 calendar days of publication of this Federal Register notice. The deadline and requirement for submitting a Separate Rate Status Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than July 31, 2020.

| Period to be reviewed
Antidumping Duty Proceedings
BELGIUM: Citric Acid and Certain Citrate Salts, A-423-813 | 1/8/18-6/30/19
S.A. Citrique Belge N.V.
CANADA: Polyethylene Terephthalate Resin,⁵ A-122-855 | 5/1/18-4/30/19
COLOMBIA: Citric Acid and Certain Citrate Salts, A-301-803 | 1/8/18-6/30/19
Sucroal S.A.
INDIA: Fine Denier Polyester Staple Fiber, A-533-875 | 1/5/18-6/30/19
Reliance Industries Limited.
INDIA: Polyethylene Terephthalate (PET) Film, A-533-824 | 7/1/18-6/30/18
Ester Industries Limited.
Garware Polyester Ltd.
Jindal Poly Films Limited.⁶
MTZ Polyesters Ltd.
Polyplex Corporation Ltd.
SRF Limited.⁷
Uflex Ltd.
Vacmet India Limited.
ITALY: Certain Pasta, A-475-818 | 7/1/18-6/30/19
Aldino S.r.l.
F. Divella S.p.A.
Ghigi 1870 S.p.A.
Industria Alimentare Colavita, S.p.A.
La Molisana S.p.A.
Liguori Pastificio dal 1820 S.p.A.
Newlat Food S.p.A.
Pastificio Fratelli DeLuca S.r.l.
Pasta Lensi, S.r.l.
Pasta Zara S.p.A.
Pasta Berruto S.p.A.
Pastificio Di Martino Gaetano & Flli S.p.A.
Pastificio Rey S.r.L.
Rummo S.p.A.
San Remo Macaroni Company.
Tesa S.r.l.
Valdigrano di Flavio Pagani S.r.L.
MALAYSIA: Certain Steel Nails, A-557-816 | 7/1/18-6/30/19
Astrotech Steels Private Limited.
Chia Pao Metal Co., Ltd.
Come Best (Thailand) Co., Ltd.
Inmax Industries Sdn. Bhd.
Inmax Sdn. Bhd.
Jinhai Hardware Co. Ltd.
Kerry-Apex (Thailand) Co., Ltd.
Region International Co., Ltd.
Region System Sdn. Bhd.
Tag Fasteners Sdn. Bhd.
Trinity Steel Private Limited.
Vien Group SDN. BHD.
WWL India Private Ltd.
OMAN: Certain Steel Nails, A-523-808 | 7/1/18-6/30/19
Al Kiyumi Global LLC.
Astrotech Steels Private Ltd.
Geekay Wires Limited.
Modern Factory For Metal Products.
Oman Fasteners LLC.
Trinity Steel Private Limited.
WWL India Private Ltd.
REPUBLIC OF KOREA: Certain Steel Nails, A-580-874 | 7/1/18-6/30/19
AAA Line International (China).
Ansing Rich Tech & Trade Co. Ltd.
Astrotech Steels Private Limited.
Baoding Jimaotong Imp. & Exp. . Co., Ltd.
Beijing Catic Industry Ltd.
Beijing Jin Heung Co. Ltd.
Big Mind Group Co, Ltd.
Bonuts Hardware Logistics.
Cheng Ch International Co Ltd.
Chiapao Metal Co., Ltd.
China Staple Enterprise Co. Ltd.
Daejin Steel Co., Ltd.
Daejin Co., Ltd.
Dezhou Xinjiayuan Hardware Products Co., Ltd.
Dezhou Hualude Hardware Products Co., Ltd.
Dong Yang Diecasting Co., Ltd.
Double-Moon Hardware Products Co., Ltd.
Duo-Fast Korea Co., Ltd.
Duo-Fast Co., Ltd.
ECI Taiwan Co., Ltd.
Eco Steel Co., Ltd.
Eco-Friendly Floor Ltd.
Ejem Brothers Limited.
Empac International Ltd.
Fastgrow International Co.
FASTCO (Shanghai) Trading Co., Ltd.
GD.CP International Co. Ltd.
Gdcp Richmax International Ltd.
Geekay Wires Limited.
Geekay Wires Ltd.
Grace International Co Ltd.
GWP Industries (Tianjin) Co., Ltd.
Hai Sheng Xin Group Co., Ltd
Hanbit Logistics Co., Ltd.
Hanmi Staple Co., Ltd.
Hebei Minmetals Co., Ltd.
Hebei Cangzhou New Century Foreign Trade Co., Ltd.
Hebei Jinsidun Trade Co. Ltd.
Hebei Minghao Import Export Co Li.
Hengtuo Metal Products Co Ltd.
Hong Kong Neos Technology Co.
Hongkong Shengshi Metal Products Co Ltd.
Hongyi Hardware Products Co., Ltd.
Hoyi Plus Co Ltd.
Inmax Industries Sdn. Bhd.
Inmax Sdn. Bhd.
JCD Group Co., Limited.
JCD Group Co., Ltd.
Je-il Wire Production Co., Ltd.
Jeil Tacker Co. Ltd.
Jinhai Hardware Co., Ltd.
Jinheung Steel Corporation.
Jinsco International Corp.
Koram Inc.
Koram Steel Co., Ltd.
Korea Wire Co., Ltd.
Leling Taishan Artificial Turf Industry.
Liang Chyuan Industrial Co., Limited.
Liang Chyuan Ind. Co., Lmt.
Liaocheng Minghui Hardware Products.
Linyi Double-Moon Hardware Products Co., Ltd.
Linyi Flying Arrow Imp. & Exp. Ltd.
Max Co., Ltd.
M & M Industries Co., Ltd.
Macropower Industrial Inc.
Mingguang Ruifeng Hardware Products Co., Ltd.
Modern Factory for Metal Products.
MPROVE Co., Limited.
Nielsen Bainbridge LLC.
Nailtech Co. Ltd.
Nailtech Co., Limited.
Neo Gls.
Paslode Co., Ltd.
Peace Industries, Ltd.
Promising Way (Hong Kong) Limited.
Pro-Team Coil Nail Enterprise Inc.
Qingdao Ant Hardware Manufacturing Co., Ltd.
Qingdao Ant Hardware Manufacturing Co., Limited.
Qingdao Cheshire Trading Co. Ltd.
Qingdao D&L Group Ltd.
Qingdao D&O Houseware Co. Ltd.
Qingdao D&O Houseware Co. Limited.
Qingdao Hongyuan Nail Industry Co. Ltd.
Qingdao JCD Machinery Co., Ltd.
Qingdao Jisco Co., Ltd.
Qingdao Meijialucky Industry and Commerce Co., Ltd.
Qingdao Mst Industry and Commerce Co., Ltd.
Qingdao Sunrise Metal Products Co. Ltd.
Qingdao TianHeng Xiang metal Products Co., Ltd
Qingdao Tiger Hardware Co., Ltd.
Qingdao Yutong Concrete Hardware Co., Ltd.
Quick Advance Inc.
Region Industries Co., Ltd.
Sam Un Co. Ltd.
Shandong Oriental Cherry Hardware Import & Export Co., Ltd.
Shandong Oriental Cherry Hardware Group Co. Ltd.
Shandong Qingyun Hongyi Hardware Products Co., Ltd.
Shanghai Shenda Imp. & Exp. Co., Ltd.
Shanghai Zoonlion Industrial Co., Ltd.
Shanghai Zoonlion Industrial Co., Limited.
Shanxi Fasteners & Hardware Products Co., Ltd.
Shanxi Pioneer Hardware Industry Co., Ltd.
Shanxi Tianli Industries Co., Ltd.
Shenzhen Jie Ding Sheng Trading Co., Ltd.
Sherilee Co Ltd.
Smile Industries Ltd.
Suntec Industries Co., Ltd.
Theps Co., Ltd.
Tianjin Coways Metal Products Co.
Tianjin Hongli Qiangsheng Imp. & Exp.
Tianjin Hweschun Fasteners Manufacturing Co. Ltd.
Tianjin Jinchi Metal Products Co., Ltd.
Tianjin Jinghai County Hongli Industry and Business.
Tianjin International Trade Co. Ltd.
Tianjin Lituo Imp&Exp Co., Ltd.
Tianjin Liweitian Metal Technology.
Tianjin Zhonglian Metals Ware Co. Ltd.
Tianjin Zhonglian Times Technology.
Unicorn (Tianjin) Fasteners Co., Ltd.
United Company for Metal Products.
Weifang Wenhe Pneumatic Tools Co., Ltd.
Wulian Zhanpeng Metals Co., Ltd.
Xi'an Metals and Minerals Imp. Exp. Co., Ltd.
Xinjiayuan International Trade Co.
Youngwoo Fasteners Co., Ltd.
Youngwoo (Cangzhou) Fasteners Co., Ltd.
You-One Fastening Systems.
Zhaoqing Harvest Nails Co. Ltd.
Zhanghaiding Hardware Co., Ltd.
Zhejiang Best Nail Industrial Co., Ltd.
Zon Mon Co Ltd.
REPUBLIC OF KOREA: Corrosion-Resistant Steel Products, A-580-878 | 7/1/18-6/30/19
Ajin H and S Co., Ltd.
Anjeon Tech Co., Ltd.
Benion Corp.
Daeho P C Co., Ltd.
Dongbu Incheon Steel Co., Ltd.
Dongbu Steel Co., Ltd.
Dongkuk Steel Mill Co., Ltd.
GS Global Corp.
Hanwa (Korea) Co., Ltd.
Hoa Sen Group.
Hyosung Corporation.
Hyundai Steel Company.
Kima Steel Corporation Ltd.
Korea CNC Co., Ltd.
Kyoungdo Steel Co., Ltd.
Mitsubishi Corp. (Korea) Ltd.
Nippon Steel and Sumikin Sales Vietnam Co., Ltd.
POSCO.
POSCO Coated & Color Steel Co., Ltd.
POSCO Daewoo Corporation.
POSCO International Corporation.
Roser Co. Ltd.
Samsung C&T Corp.
Samsung Corp.
SeAH Coated Metal Corp.
SeAH Steel.
Seun Steel.
SK Networks Co., Ltd.
Ton Dong A Corporation.
Young Steel Co., Ltd.
SOCIALIST REPUBLIC OF VIETNAM: Certain Steel Nails, A-552-818 | 7/1/18-6/30/19
Atlantic Manufacure Inc.
Chia Pao Metal Co., Ltd.
CS Song Thuy.
Easylink Industrial Co., Ltd.
Expeditors Vietnam Company Limited.
Inmax Industries SDN. BHD.
Jinhai Hardware Co., Ltd.
Le Phuong Trading Import Export.
Long Nguyen Trading & Service Co., Ltd.
Region Industries Co., Ltd.
Rich State Inc.
Sam Hwan Vina Co., Ltd.
Thai Bao Im-Ex Corporation Company.
Truong Vinh Ltd.
United Nail Products Co. Ltd.
Vinalink O B Lu Yen Linh.
SPAIN: Finished Carbon Steel Flanges,⁸ A-469-815 | 6/1/18-5/31/19
Friedrich Geldbach Gmbh.
TAIWAN: Certain Steel Nails, A-583-854 | 7/1/18-6/30/19
All Precision Co., Ltd.
Aplus Pneumatic Corp.
Astrotech Steels Private Ltd.
Basso Industry Corporation.
Bonuts Hardware Logistic Co.
Challenge Industrial Co., Ltd.
Cheng Ch International Co. Ltd.
Chia Pao Metal Co. Ltd.
China Staple Enterprise Corporation.
Chite Enterprises Co., Ltd.
Create Trading Co., Ltd.
Crown Run Industrial Corp.
Da Yong Enterprise Co., Ltd.
Daejin Steel Company Ltd.
De Fasteners Inc.
Dragon Iron Factory Co., Ltd.
Easylink Industrial Co., Ltd.
ECI Taiwan Co., Ltd.
Encore Green Co., Ltd.
Faithful Engineering Products Co. Ltd.
Fastenal Asia Pacific Ltd.
Four Winds Corporation.
Gaun Ting Technology Co., Ltd.
General Merchandise Consolidators.
Ginfa World Co. Ltd.
Gloex Inc.
Home Value Co., Ltd.
Hor Liang Industrial Corp.
Hoyi Plus Co., Ltd.
Integral Building Products Inc.
Interactive Corp.
J C Grand Corporation.
Jade Shuttle Enterprise Co., Ltd.
Jau Yeou Industry Co., Ltd.
Jen Ju Enterprise Co., Ltd.
Jet Crown International Co., Ltd.
Jiajue Industrial Co. Ltd.
Jinhai Hardware Co., Ltd.
Jinsco International Corp.
Ko's Nail Inc.
Korea Wire Co., Ltd.
Liang Chyuan Industrial Co., Ltd.
Linkwell Industry Co., Ltd.
Locksure Inc.
Long Ngyuen Trading & Service Co.
Lu Kang Hand Tools Industrial Co., Ltd. (Prommer).
Master United Corp.
Maytrans International Corp.
Ming Cheng Hardware Co., Ltd.
Nailermate Enterprise Corporation.
Nailtech Co., Ltd.
Newrex Screw Corporation.
NS International Ltd.
Panther T&H Industry Co.
Patek Tool Co., Ltd.
Point Edge Corp.
President Industrial Inc.
Pro-Team Coil Nail Enterprise Inc./PT Enterprise Inc.⁹
Quick Advance Inc.
Region Industries Co., Ltd.
Region International Co. Ltd.
Region System Sdn. Bhd.
Romp Coil Nail Industries Inc.
Shinn Chuen Corp.
Six-2 Fastener Imports Inc.
Taiwan Shan Yin Int'l Co. Ltd.
Taiwan Wakisangyo Co. Ltd.
Techart Mechanical Corporation.
Test-Rite Int'l Co., Ltd.
Theps Co., Ltd.
Trans-Top Enterprise Co., Ltd.
Trim International Inc.
U-Can-Do Hardware Corp.
UJL Industries Co., Ltd.
Unicatch Industrial Co. Ltd.
VIM International Enterprise Co., Ltd.
Wattson Fastener Group Inc.
Wictory Co. Ltd.
Yeh Fong Hsin.
Yehdyi Enterprise Co., Ltd.
Yu Chi Hardware Co., Ltd.
Zhishan Xing Enterprise Co., Ltd.
Zon Mon Co. Ltd.
TAIWAN: Corrosion-Resistant Steel Products, A-583-856 | 7/1/18-6/30/19
Hoa Sen Group.
Nippon Steel.
Prosperity Tieh Enterprise Co., Ltd.
Sheng Yu Steel Co., Ltd.
Sumikin Sales Vietnam Co., Ltd.
Synn Industrial Co., Ltd.
Ton Dong A Corporation.
Yieh Phui Enterprise Co., Ltd.
TAIWAN: Polyethylene Terephthalate (PET) Film, A-583-837 | 7/1/18-6/30/19
Nan Ya Plastics Corporation.
Shinkong Materials Technology Corporation (a/k/a Shinkong Materials Technology Co.).
THAILAND: Citric Acid and Certain Citrate Salts, A-549-833 | 1/1/18-6/30/19
COFCO Biochemical (Thailand) Co., Ltd.
Niran (Thailand) Co., Ltd.,
Sunshine Biotech International Co., Ltd.
THE PEOPLE'S REPUBLIC OF CHINA: Aluminum Extrusions, ¹⁰ ¹¹ A-570-967 | 5/1/18-4/30/19
Acro Import and Export Co.
Birchwoods (Lin'an) Leisure Products Co., Ltd.
Changshu Changsheng Aluminum Products Co., Ltd.
Changshu Changshen Aluminum Products Co., Ltd.
China Square Industrial Ltd.
Classic & Contemporary Inc.
Cosco (JM) Aluminum Development Co. Ltd.
Ltd Global Hi-Tek Precision Co. Ltd.
Justhere Co., Ltd.
Kanal Precision Aluminum Product Co., Ltd.
Kartlon Aluminum Company Ltd.
MAAX Bath Inc.
Shanghai Automobile Air-Conditioner Accessories Co Ltd.
Tianjin Jinmao Import & Export Corp., Ltd.
Xinchang Yongqiang Air Conditioning Accessories Co., Ltd.
THE PEOPLE'S REPUBLIC OF CHINA: Carbon Steel Butt-Weld Pipe Fittings, A-570-814 | 7/1/18-6/30/19
Solidbend Fittings & Flanges Sdn. Bhd.
THE PEOPLE'S REPUBLIC OF CHINA: Certain Cold-Rolled Steel Flat Products, A-570-029 | 7/1/18-6/30/19
China Steel Sumikin JSC.
Dai Thien Loc Corp.
Hoa Phat Steel Pipe.
Hoa Sen Group.
Maruichi Sun Steel Corporation.
Nam Kim Steel.
NS BlueScope.
POSCO Vietnam.
Southern Steel Sheet Co.
Ton Dong A Corporation.
Vina One.
VNSteel ‐ Phu My Flat Steel.
THE PEOPLE'S REPUBLIC OF CHINA: Circular Welded Carbon Quality Steel Pipe, A-570-910 | 7/1/18-6/30/19
A&T Industry Co., Ltd.
Allied Transport System Inc.
AM Global Shipping Lines.
Ample Star Enterprises.
Apex Maritime (Tianjin) Co., Ltd.
Artson Fuzhou Co., Ltd.
Baoshan Iron & Steel Co., Ltd.
Bazhou Dongsheng Hot-Dipped Galvanized Steel Pipe Co., Ltd.
Bazhou Zhuofa Steel Pipe Co. Ltd.
Beijing Bell Plumbing Manufacturing Ltd.
Beijing Jia Mei Ao Trade Limited.
Beijing Jinghua Shunqi Trading Co., Ltd.
Beijing Kaishengao Import & Export.
Beijing Kang Jie Kong International Cargo Agent Co., Ltd.
Beijing Sai Lin Ke Hardware Co., Ltd.
Beijing Zhongxingtong Technology Company Limited.
Benxi Northern Pipes Co., Ltd.
Bestar Steel Co., Ltd.
Cangzhou Huasheng Modern Casting Company Limited.
Chaoteng Group Ltd.
CI Consolidators Services Limited.
Cnooc Kingland Pipeline Co., Ltd.
Dalian Brollo Steel Tubes Ltd.
Dalian Shipbuilding Import Export Company.
DSC Quanzhou Dongshan Machine Co., Ltd.
Etco International Trading Co., Ltd.
Giant-Move Equipment Co., Ltd.
Feel Light Co., Ltd.
Guangdong Walsall Steel Pipe Industrial Co., Ltd.
Guangzhou Juyi Steel Pipe Co., Ltd.
Hainan Standard Stone Company Ltd.
Hangzhou Chaoteng International.
Hangzhou Shunlan Trading Company Limited.
Hebei Machinery Import & Export Co., Ltd.
Hebei Metals & Engineering Products Co., Ltd.
Hefei Ziking Steel Pipe Co., Ltd.
Hengshui Jinghua Steel Pipe Co., Ltd.
Hengyang Valin Steel Tube Group Trading Co., Ltd.
Herede Engineering Ltd.
Hubei Xin Yegang Special Tube Co.
Hunan Henyang Steel Tube (Group) Co., Ltd.
Hulado City Steel Pipe Industrial Co., Ltd.
Jiangsu Changbao Steel Tube Co., Ltd.
Jiangsu Guoqiang Zinc-Plating Industrial Company, Ltd.
Jiangsu Hen-Yuan Garden Supplies Company Ltd.
Jiangsu Yulong Steel Pipe Co., Ltd.
Jiangsu Zhongheng Dyeing & Finishing Co., Ltd.
Jiangyin Jianye Metal Products Co., Ltd.
Jinan Meide Casting Co. Ltd.
Jinan Meide Piping Technology Company Ltd.
Kun Shan Sandia Special Steel Pipe Co., Ltd.
Kunshan City Yuan Han Electronic Co., Ltd.
Kunshan Lets Win Steel Machinery Co., Ltd.
Kunshan Taiheiyo Precision Machinery Co., Ltd.
LF Logistics (China) Co., Ltd.
Lianji Chemical Industry Co Limited.
Liaoning Northern Steel Pipe Co., Ltd.
Longyou Yilaida Electric Appliance Co., Ltd.
Myriad Treasure Trading Co., Ltd.
Nb Bedding & Living Company Limited.
Ningbo Acei Screw Plug Inc.
Ningbo Haishu Jiayong Xingyo Import & Export Co., Ltd.
Ningbo Sunny Foreign Trade Co., Ltd.
Orient Express Container Co., Ltd.
Pacific Star Express Corporation.
Pangang Chengdu Group Iron & Steel Co., Ltd.
Panyu Chu Kong Steel Pipe Co., Ltd.
Pudong Prime International Company Limited.
Qingdao Ocean Master Steel & Plastic Co., Ltd.
Qingdao Xiangxing Steel Pipe Co., Ltd.
Qingdao Yongjie Import & Export Co., Ltd.
Ritime Group Inc.
Rizhao Xingye Import & Export Co., Ltd.
Rogers Corporation.
Shandong Liancheng Auto Parts Company.
Shandong Xinyuan Group Co., Ltd.
Shanghai Freeland International Trading Co. Ltd.
Shanghai Golden Bridge Int'l Logistic Co., Ltd.
Shanghai ITPC Import & Export Co. Ltd.
Shanghai Metals & Minerals Import & Export Corporation.
Shanghai Pudong International Transportation.
Shanghai Wor-Biz Trading Co., Ltd.
Shanghai Zhongyou Tipo Steel Pipe Co., Ltd.
Shaoxing Xinyue Trade Co., Ltd.
Shenyang Boyu M/E Co., Ltd.
Shenyang Machinery Import & Export Co., Ltd.
Shijiazhuang Zhongqing Imp & Exp Co., Ltd.
Sichuan Y&J Industries Company Limited.
Spat Steel International Hong Kong Limited.
Suzhou Hongsheng Lighting Products Co. Ltd.
Tangshan Fengnan District Xinlida Steel Pipe Co., Ltd.
The Huludao Steel Tube Industry Co., Ltd.
Tianjin Baolai Int'l Trade Co., Ltd.
Tianjin Haoyou Industry Trade Co., Ltd.
Tianjin Hongshengxiang Paper Company.
Tianjin Lifengyuanda Steel Group Co. Ltd.
Tianjin Lituo Steel Products Co., Ltd.
Tianjin Longshenghua Import And Export.
Tianjin No.1 Steel Rolled Co., Ltd.
Tianjin Pipe International Economic & Trading Corporation.
Tianjin Ruitong Steel Co., Ltd.
Tianjin Shenzhoutong Steel Pipe Co., Ltd.
Tianjin Vision International Trading Co., Ltd.
Tianjin Xingyuda Import And Export Co., Ltd.
Tianjin Xingyunda Steel Pipe Co., Ltd.
Tianjin Yayi Industrial Co., Ltd.
Translink Shipping, Inc.
Weifang East Steel Pipe Co., Ltd.
Wisco And Crm Wuhan Materials & Trading Co., Ltd.
Wuhan Bosen Trade Co., Ltd.
Wuxi Eric Steel Pipe Co., Ltd.
Wuxi Fastube Industry Co., Ltd.
Wuxi Marca International Imports And Exports.
Xuzhou Global Pipe & Fitting Manufacturing Co., Ltd.
Xuzhou Guang Huan Steel Tube Products Co., Ltd.
Xuzhou Yongsheng Pipe & Fitting Co., Ltd.
Yangzhou Lontrin Steel Tube Co., Ltd.
Zhangjiagang Hengchang Welding Materials Co., Ltd.
Zhangjiangang Zhongyuan Pipe-Making Co., Ltd.
Zhejiang Kingland Pipeline Industry Co., Ltd.
Zhejiang Machinery & Equipment Import & Export Co., Ltd.
THE PEOPLE'S REPUBLIC OF CHINA: Corrosion-Resistant Steel Products, A-570-026 | 7/1/18-6/30/19
China Steel Sumikin Vietnam.
Dai Thien Loc Corp.
Hoa Phat Steel Pipe.
Hoa Sen Group.
Maruichi Sun Steel.
Nam Kim Steel.
Nippon Steel and Sumikin Sales Vietnam Co., Ltd.
NS Bluescope.
Southern Steel Sheet Co.
Ton Dong A Corporation.
Vina One.
THE PEOPLE'S REPUBLIC OF CHINA: Monosodium Glutamate, A-570-992 | 11/1/17-10/31/18
The China-Wide Entity.¹²
THE PEOPLE'S REPUBLIC OF CHINA: Xanthan Gum, A-570-985 | 7/1/18-6/30/19
A.H.A. International Co., Ltd.
CP Kelco (Shandong) Biological Company Limited.
Deosen Biochemical (Ordos) Ltd.
Deosen Biochemical Ltd.
Green Health International.
Greenhealth International Co., Ltd. (Hong Kong).
Hebei Xinhe Biochemical Co. Ltd.
Inner Mongolia Jianlong Biochemical Co., Ltd.
Jianglong Biotechnology Co., Ltd.
Langfang Meihua BioTechnology Co., Ltd.
Meihua Group International Trading (Hong Kong) Limited.
Meihua Group International Trading (Hong Kong).
Neimenggu Fufeng Biotechnologies Co., Ltd. (aka Inner Mongolia Fufeng.
Biotechnologies Co., Ltd.
Shandong Fufeng Fermentation Co., Ltd.
Shanghai Smart Chemicals Co. Ltd.
Xinjiang Fufeng Biotechnologies Co., Ltd.
Xinjiang Meihua Amino Acid Co., Ltd.
TURKEY: Steel Concrete Reinforcing Bar, A-489-829 | 7/1/18-6/30/19
Colakoglu Dis Ticaret A.S.
Colakoglu Metalurji A.S.
Diler Dis Ticaret A.S.
Habas Sinai ve Tibbi Gazlar Istihsal Endustrisi A.S.
Icdas Celik Enerji Tersane ve Ulasim.
Icdas Celik Enerji Tersane ve Ulasim Sanayi A.S.
Kaptan Demir Celik Endustrisi ve Ticaret A.S.
Kaptan Metal Dis Ticaret ve Nakliyat A.S.
VENEZUELA: Silicomanganese,¹³ A-307-820 | 5/1/18-4/30/19
Countervailing Duty Proceedings
INDIA: Polyethylene Terephthalate (PET) Film, C-533-825 | 1/1/18-12/31/18
Ester Industries Limited.
Garware Polyester Ltd.
Jindal Poly Films Limited.¹⁴
MTZ Polyesters Ltd.
Polyplex Corporation Ltd.
SRF Limited.¹⁵
Uflex Ltd.
Vacmet India Limited.
ITALY: Certain Pasta, C-475-819 | 1/1/18-12/31/18
Industria Alimentare Colavita, S.p.A
Pastificio Fratelli De Luca S.r.l.
Tesa S.r.l.
REPUBLIC OF KOREA: Corrosion-Resistant Steel Products, C-580-879 | 1/1/18-12/31/18
AJU Steel Co., Ltd.
Anjeon Tech.
Benison Korea Transport.
Core International.
CS Global Logistics.
Dai Yang Metal Co., Ltd.
Dongbu Incheon Steel Co., Ltd.
Dongbu Steel Co., Ltd.
GS Global Corp.
Hanwa (Korea) Co., Ltd.
Hebei Hongxing Auto Made.
Hoa Sen Group.
Hyundai Steel Company.
Intergis.
Jeongwha Polytech.
Joo Sung Sea And Air Co., Ltd.
KC Tech.
Kima Steel Corporation.
Korea Clad Tech.
Kyoungdo Steel Co., Ltd.
Market Connect Sales Services.
Milestone Korea Co., Ltd.
Nippon Steel and Sumikin Sales Vietnam Co., Ltd.
POSCO.
POSCO Coated & Color Steel Co., Ltd.
POSCO Daewoo Corporation.
POSCO International Corporation.
Qingdao Wangbaoqiang.
Roser Co., Ltd.
Samsung C&T Corporation.
Sanglim Steel.
SeAH Steel.
Sejung Shipping Co., Ltd.
Seun Steel.
Shandongsheng Cao Xian Yalu Mftd.
Sung A Steel.
TCC Steel Co., Ltd.
Ton Dong A Corporation.
Young Heung Iron and Steel Co., Ltd.
Young Steel Korea Co., Ltd.
Young Sun Steel Co.
SOCIALIST OF REPUBLIC OF VIETNAM: Certain Steel Nails, C-552-819 | 1/1/18-12/31/18
Atlantic Manufacure Inc.
Chia Pao Metal Co., Ltd.
CS Song Thuy.
Easylink Industrial Co., Ltd.
Expeditors Vietnam Company Limited.
Inmax Industries SDN. BHD.
Jinhai Hardware Co., Ltd.
Le Phuong Trading Import Export.
Long Nguyen Trading & Service Co., Ltd.
Region Industries Co., Ltd.
Rich State Inc.
Sam Hwan Vina Co., Ltd.
Thai Bao Im-Ex Corporation Company.
Truong Vinh Ltd.
United Nail Products Co. Ltd.
Vinalink O B Lu Yen Linh.
THE PEOPLE'S REPUBLIC OF CHINA: Aluminum Extrusions, ¹⁶ ¹⁷ | 1/1/18-12/31/18
C-570-968
Acro Import and Export Co.
Changshu Changshen Aluminum Products Co., Ltd.
Changshu Changsheng Aluminum Products Co., Ltd.
Changzhou Changzheng Evaporator Co., Ltd.
Global Hi-Tek Precision Co. Ltd.
Hong Kong Modern Non-Ferrous Metal.
Kromet Intl Inc.
Shanghai Automobile Air-Conditioner Accessories Co Ltd.
Tianjin Ganglv Nonferrous Metal Materials Co., Ltd.
Xin Wei Aluminum Co.
THE PEOPLE'S REPUBLIC OF CHINA: Certain Cold-Rolled Steel Flat Products, C-570-030 | 1/1/18-12/31/18
China Steel Sumikin JSC.
Dai Thien Loc Corp.
Hoa Phat Steel Pipe.
Hoa Sen Group.
Maruichi Sun Steel Corporation.
Nam Kim Steel.
NS BlueScope.
POSCO Vietnam.
Southern Steel Sheet Co.
Ton Dong A Corporation.
Vina One.
VNSteel—Phu My Flat Steel.
THE PEOPLE'S REPUBLIC OF CHINA: Circular Welded Carbon Quality Steel Pipe, C-570-911 | 1/1/18-12/31/18
A&T Industry Co., Ltd.
Allied Transport System Inc.
AM Global Shipping Lines.
Ample Star Enterprises.
Apex Maritime (Tianjin) Co., Ltd.
Artson Fuzhou Co., Ltd.
Baoshan Iron & Steel Co., Ltd.
Bazhou Dongsheng Hot-Dipped Galvanized Steel Pipe Co., Ltd.
Bazhou Zhuofa Steel Pipe Co. Ltd.
Beijing Bell Plumbing Manufacturing Ltd.
Beijing Jia Mei Ao Trade Limited.
Beijing Jinghua Shunqi Trading Co., Ltd.
Beijing Kaishengao Import & Export.
Beijing Kang Jie Kong International Cargo Agent Co., Ltd.
Beijing Sai Lin Ke Hardware Co., Ltd.
Beijing Zhongxingtong Technology Company Limited.
Benxi Northern Pipes Co., Ltd.
Bestar Steel Co., Ltd.
Cangzhou Huasheng Modern Casting Company Limited.
Chaoteng Group Ltd.
CI Consolidators Services Limited.
Cnooc Kingland Pipeline Co., Ltd.
Dalian Brollo Steel Tubes Ltd.
Dalian Shipbuilding Import Export Company.
DSC Quanzhou Dongshan Machine Co., Ltd.
Etco International Trading Co., Ltd.
Feel Light Co., Ltd.
Giant-Move Equipment Co., Ltd.
Guangdong Walsall Steel Pipe Industrial Co., Ltd.
Guangzhou Juyi Steel Pipe Co., Ltd.
Hainan Standard Stone Company Ltd.
Hangzhou Chaoteng International.
Hangzhou Shunlan Trading Company Limited.
Hebei Machinery Import & Export Co., Ltd.
Hebei Metals & Engineering Products Co., Ltd.
Hefei Ziking Steel Pipe Co., Ltd.
Hengshui Jinghua Steel Pipe Co., Ltd.
Hengyang Valin Steel Tube Group Trading Co. Ltd.
Herede Engineering Ltd.
Hubei Xin Yegang Special Tube Co.
Hulado City Steel Pipe Industrial Co., Ltd.
Hunan Henyang Steel Tube (Group) Co., Ltd.
Jiangsu Changbao Steel Tube Co., Ltd.
Jiangsu Guoqiang Zinc-Plating Industrial Company, Ltd.
Jiangsu Hen-Yuan Garden Supplies Company Ltd.
Jiangsu Yulong Steel Pipe Co., Ltd.
Jiangsu Zhongheng Dyeing & Finishing Co., Ltd.
Jiangyin Jianye Metal Products Co., Ltd.
Jinan Meide Casting Co. Ltd.
Jinan Meide Piping Technology Company Ltd.
Kun Shan Sandia Special Steel Pipe Co., Ltd.
Kunshan City Yuan Han Electronic Co., Ltd.
Kunshan Lets Win Steel Machinery Co., Ltd.
Kunshan Taiheiyo Precision Machinery Co., Ltd.
LF Logistics (China) Co., Ltd.
Lianji Chemical Industry Co Limited.
Liaoning Northern Steel Pipe Co., Ltd.
Longyou Yilaida Electric Appliance Co., Ltd.
Myriad Treasure Trading Co., Ltd.
Nb Bedding & Living Company Limited.
Ningbo Acei Screw Plug Inc.
Ningbo Haishu Jiayong Xingyo Import & Export Co., Ltd.
Ningbo Sunny Foreign Trade Co., Ltd.
Orient Express Container Co., Ltd.
Pacific Star Express Corporation.
Pangang Chengdu Group Iron & Steel Co., Ltd.
Panyu Chu Kong Steel Pipe Co., Ltd.
Pudong Prime International Company Limited.
Qingdao Ocean Master Steel & Plastic Co., Ltd.
Qingdao Xiangxing Steel Pipe Co., Ltd.
Qingdao Yongjie Import & Export Co., Ltd.
Ritime Group Inc.
Rizhao Xingye Import & Export Co., Ltd.
Rogers Corporation.
Shandong Liancheng Auto Parts Company.
Shandong Xinyuan Group Co., Ltd.
Shanghai Freeland International Trading Co. Ltd.
Shanghai Golden Bridge Int'l Logistic Co., Ltd.
Shanghai ITPC Import & Export Co. Ltd.
Shanghai Metals & Minerals Import & Export Corporation.
Shanghai Pudong International Transportation.
Shanghai Wor-Biz Trading Co., Ltd.
Shanghai Zhongyou Tipo Steel Pipe Co., Ltd.
Shaoxing Xinyue Trade Co., Ltd.
Shenyang Boyu M/E Co., Ltd.
Shenyang Machinery Import & Export Co., Ltd.
Shijiazhuang Zhongqing Imp & Exp Co., Ltd.
Sichuan Y&J Industries Company Limited.
Spat Steel International Hong Kong Limited.
Suzhou Hongsheng Lighting Products Co. Ltd.
Tangshan Fengnan District Xinlida Steel Pipe Co., Ltd
The Huludao Steel Tube Industry Co., Ltd.
Tianjin Baolai Int'l Trade Co., Ltd.
Tianjin Haoyou Industry Trade Co., Ltd.
Tianjin Hongshengxiang Paper Company.
Tianjin Lifengyuanda Steel Group Co. Ltd.
Tianjin Lituo Steel Products Co., Ltd.
Tianjin Longshenghua Import And Export.
Tianjin No.1 Steel Rolled Co., Ltd.
Tianjin Pipe International Economic & Trading Corporation.
Tianjin Ruitong Steel Co., Ltd.
Tianjin Shenzhoutong Steel Pipe Co., Ltd.
Tianjin Vision International Trading Co., Ltd.
Tianjin Xingyuda Import And Export Co., Ltd.
Tianjin Xingyunda Steel Pipe Co., Ltd.
Tianjin Yayi Industrial Co., Ltd.
Translink Shipping, Inc.
Weifang East Steel Pipe Co., Ltd.
Wisco And Crm Wuhan Materials & Trading Co., Ltd
Wuhan Bosen Trade Co., Ltd.
Wuxi Eric Steel Pipe Co., Ltd.
Wuxi Fastube Industry Co., Ltd.
Wuxi Marca International Imports And Exports.
Xuzhou Global Pipe & Fitting Manufacturing Co., Ltd.
Xuzhou Guang Huan Steel Tube Products Co., Ltd.
Xuzhou Yongsheng Pipe & Fitting Co., Ltd.
Yangzhou Lontrin Steel Tube Co., Ltd.
Zhangjiagang Hengchang Welding Materials Co., Ltd
Zhangjiangang Zhongyuan Pipe-Making Co., Ltd.
Zhejiang Kingland Pipeline Industry Co., Ltd.
Zhejiang Machinery & Equipment Import & Export Co., Ltd.
THE PEOPLE'S REPUBLIC OF CHINA: Corrosion-Resistant Steel Products, C-570-027 | 1/1/18-12/31/18
China Steel Sumikin Vietnam.
Dai Thien Loc Corp.
Hoa Phat Steel Pipe.
Hoa Sen Group.
Maruichi Sun Steel.
Nam Kim Steel.
Nippon Steel and Sumikin Sales Vietnam Co., Ltd.
NS Bluescope.
Southern Steel Sheet Co.
Ton Dong A Corporation.
Vina One.
THE PEOPLE'S REPUBLIC OF CHINA: Cold-Drawn Mechanical Tubing ¹⁸, C-570-059 | 9/25/17-12/31/18
Zhejiang Minghe Steel Pipe Co., Ltd.
TURKEY: Steel Concrete Reinforcing Bar, C-489-830 | 1/1/18-12/31/18.
Habas Sinai ve Tibbi Gazlar Istihsal Endustrisi A.S.

Suspension Agreements

None.

⁵ In the initiation notice that published on July 15, 2019 (84 FR 33739), covering cases with the May anniversary dates, Commerce inadvertently listed the referenced case above. We are not initiating a review with respect to Compagnie Selenis Canada.

⁶ This company is also known as Jindal Poly Films Ltd. (India) and Jindal Poly Films Limited of India.

⁷ This company is also known as SRF Limited of India.

⁸ The name of the company listed above was misspelled in the initiation notice that published on July 29, 2018 (84 FR 36572). The correct spelling of this company's name is listed in this notice.

⁹ Commerce determined to treat Pro-Team Coil Nail Enterprise Inc. and PT Enterprise Inc. as a single entity. See Certain Steel Nails from Taiwan: Preliminary Results of Antidumping Duty Administrative Review and Partial Rescission of Administrative Review; 2015-2016, 82 FR 36744 (August 7, 2017) and accompanying Preliminary Decision Memorandum, unchanged in Certain Steel Nails from Taiwan: Final Results of Antidumping Duty Administrative Review and Partial Rescission of Administrative Review; 2015-2016, 83 FR 6163 (February 13, 2018). Absent information to the contrary, we intend to continue to treat these companies as a single entity for purposes of this administrative review.

¹⁰ The names of the companies listed above were misspelled in the initiation notice that published on July 15, 2019 (84 FR 33739). The correct spellings of these companies' names are listed in this notice.

¹¹ The following paragraph was also inadvertently omitted from the initiation notice that published on July 15, 2019 (84 FR 33739), and is hereby incorporated into it:

Respondent Selection—Aluminum Extrusions from the People's Republic of ChinaIn the event Commerce limits the number of respondents for individual examination in the administrative review of the antidumping duty order on aluminum extrusions from the People's Republic of China (“China”), Commerce intends to select respondents based on volume data contained in responses to Q&V questionnaires. Further, Commerce intends to limit the number of Q&V questionnaires issued in the review based on CBP data for U.S. imports of aluminum extrusions from China. The extremely wide variety of individual types of aluminum extrusion products included in the scope of the order on aluminum extrusions would preclude meaningful results in attempting to determine the largest China exporters of subject merchandise by volume. Therefore, Commerce will limit the number of Q&V questionnaires issued based on the import values in CBP data which will serve as a proxy for imported quantities. Parties subject to the review to which Commerce does not send a Q&V questionnaire may file a response to the Q&V questionnaire by the applicable deadline if they desire to be included in the pool of companies from which Commerce will select mandatory respondents. The Q&V questionnaire will be available on Commerce's website at http://trade.gov/enforcement/news.asp on the date of publication of this notice in the Federal Register. The responses to the Q&V questionnaire must be received by Commerce within 14 days of publication of this notice. Please be advised that due to the time constraints imposed by the statutory and regulatory deadlines for antidumping duty administrative reviews, Commerce does not intend to grant any extensions for the submission of responses to the Q&V questionnaire. Parties will be given the opportunity to comment on the CBP data used by Commerce to limit the number of Q&V questionnaires issued. We intend to release the CBP data under APO to all parties having an APO within seven days of publication of this notice in the Federal Register. Commerce invites comments regarding CBP data and respondent selection within five days of placement of the CBP data on the record.

¹² Commerce inadvertently omitted the China-Wide Entity from the Initiation Notice which published on February 6, 2019 (84 FR 2159).

¹³ In the initiation notice that published on July 15, 2019 (84 FR 33739), covering cases with the May anniversary dates, Commerce inadvertently listed the referenced case above. We are not initiating a review with respect to Homos Electricos de Venezuela, FerroAtlantica de Venezuela and FerroAtlantica S.A.

¹⁴ This company is also known as Jindal Poly Films Ltd. (India) and Jindal Poly Films Limited of India.

¹⁵ This company is also known as SRF Limited of India.

¹⁶ The names of the companies listed above were misspelled in the initiation notice that published on July 15, 2019 (84 FR 33739). The correct spellings of these companies' names are listed in this notice.

¹⁷ The following paragraph was also inadvertently omitted from the initiation notice that published on July 15, 2019 (84 FR 33739), and is hereby incorporated into it:

Respondent Selection—Aluminum Extrusions from the People's Republic of ChinaIn the event Commerce limits the number of respondents for individual examination in the administrative review of the antidumping duty order on aluminum extrusions from the People's Republic of China (“China”), Commerce intends to select respondents based on volume data contained in responses to Q&V questionnaires. Further, Commerce intends to limit the number of Q&V questionnaires issued in the review based on CBP data for U.S. imports of aluminum extrusions from China. The extremely wide variety of individual types of aluminum extrusion products included in the scope of the order on aluminum extrusions would preclude meaningful results in attempting to determine the largest China exporters of subject merchandise by volume. Therefore, Commerce will limit the number of Q&V questionnaires issued based on the import values in CBP data which will serve as a proxy for imported quantities. Parties subject to the review to which Commerce does not send a Q&V questionnaire may file a response to the Q&V questionnaire by the applicable deadline if they desire to be included in the pool of companies from which Commerce will select mandatory respondents. The Q&V questionnaire will be available on Commerce's website at http://trade.gov/enforcement/news.asp on the date of publication of this notice in the Federal Register. The responses to the Q&V questionnaire must be received by Commerce within 14 days of publication of this notice. Please be advised that due to the time constraints imposed by the statutory and regulatory deadlines for antidumping duty administrative reviews, Commerce does not intend to grant any extensions for the submission of responses to the Q&V questionnaire. Parties will be given the opportunity to comment on the CBP data used by Commerce to limit the number of Q&V questionnaires issued. We intend to release the CBP data under APO to all parties having an APO within seven days of publication of this notice in the Federal Register. Commerce invites comments regarding CBP data and respondent selection within five days of placement of the CBP data on the record.

¹⁸ The name of the company listed above was misspelled in the initiation notice that published on May 2, 2019 (84 FR 18777). The correct spelling of the company name is listed in this notice.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.¹⁹ Parties are hereby reminded that revised certification requirements are in effect for company/government officials as well as their representatives. All segments of any antidumping duty or countervailing duty proceedings initiated on or after August 16, 2013, should use the formats for the revised certifications provided at the end of the Final Rule.²⁰ Commerce intends to reject factual submissions in any proceeding segments if the submitting party does not comply with applicable revised certification requirements.

¹⁹ See section 782(b) of the Act.

²⁰ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This modification also requires that an extension request must be made in a separate, stand-alone submission, and clarifies the circumstances under which Commerce will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: September 3, 2019.
James Maeder,
Deputy Assistant Secretary for Antidumping and Countervailing Duty Operations.

[FR Doc. 2019-19417 Filed 9-6-19; 8:45 am]

BILLING CODE 3510-DS-P